DEPARTMENT OF ENERGY

Federal Energy Regulatory Commission

[Project No. 2150-033]

Washington Puget Sound Energy, Inc.; Notice of Availability of a Final Environmental Impact Statement for the Baker River Hydroelectric Project

September 8, 2006.

In accordance with the National Environmental Policy Act of 1969 and the Federal Energy Regulatory Commission's (Commission) regulations, 18 CFR Part 380 (Order No. 486, 52 FR 47897), the Office of Energy Projects has reviewed the application for a license for the Baker River Hydroelectric Project (FERC No. 2150-033), located on the Baker River in Whatcom and Skagit Counties, Washington and has prepared a Final Environmental Impact Statement (EIS) for the project. The final EIS was prepared in cooperation with the U.S. Army Corps of Engineers pursuant to 40 CFR 1501.6 of the National Environmental Policy Act. The Baker River Project occupies 5,207 acres of lands within the Mt. Baker-Snoqualmie National Forest managed by the U.S. Forest Service.

The final EIS, contains staff evaluations of the applicant's proposal and the alternatives for relicensing the Baker River Project. The final EIS documents the views of governmental agencies, non-governmental organizations, affected Indian tribes, the public, the license applicant, and Commission staff.

A copy of the final EIS is available for review in the Commission's Public Reference Branch, Room 2A, located at 888 First Street, NE., Washington, DC 20426. The final EIS also may be viewed on the Commission's Web site at http://www.ferc.gov under the eLibrary link. Enter the docket number excluding the last three digits in the docket number field to access the document. For assistance, contact FERC Online Support at FERCOnlineSupport@ferc.gov or toll-free at (866) 208-3676, or for TTY, (202) 502-8659.

You may also register online at http://www.ferc.gov/docs-filing/esubscription.asp to be notified via e-mail of new filings and issuances related to this or other pending projects. For assistance, contact FERC Online Support.

For Further Information Contact: Steve Hocking at (202) 502-8753 or at steve.hocking@ferc.gov.

Magalie R. Salas,
Secretary.

[FR Doc. E6-15384 Filed 9-15-06; 8:45 am]

BILLING CODE 6717-01-P